DEPARTMENT OF COMMERCE

National Oceanic and Atmospheric Administration

[I.D. 022404A]

Marine Mammals; File No. 1050-1727-00

AGENCY: National Marine Fisheries Service (NMFS), National Oceanic and Atmospheric Administration (NOAA), Commerce.

ACTION: Issuance of permit.

SUMMARY: Notice is hereby given that Pribilof Project Office, NOAA, National Ocean Service, 7600 Sand Point Way, Seattle, Washington 98115 (Principal Investigator: John A. Lindsay), has been issued a permit to take by harassment, Northern fur seals (Callorhinus ursinus) for purposes of commercial/educational photography.

ADDRESSES: The permit and related documents are available for review upon written request or by appointment in the following office(s):

Permits, Conservation and Education Division, Office of Protected Resources, NMFS, 1315 East-West Highway, Room 13705, Silver Spring, MD 20910; phone (301)713-2289; fax (301)713-0376; and

Alaska Region, NMFS, P.O. Box 21668, Juneau, AK 99802-1668; phone (907)586-7221; fax (907)586-7249.

FOR FURTHER INFORMATION CONTACT: Ruth Johnson or Jennifer Jefferies (301)713-2289.

SUPPLEMENTARY INFORMATION: On December 18, 2003, notice was published in the Federal Register (68 FR 70493) that a request for a commercial/educational photography permit to take by harassment, Northern fur seals had been submitted by the above-named organization. The requested permit has been issued under the authority of the Marine Mammal Protection Act of 1972, as amended (16 U.S.C. 1361 et seq), and the Fur Seal Act of 1966, as amended (16 U.S.C. 1151 et seq.).

Dated: February 27, 2004.
Stephen L. Leathery,
Chief, Permits, Conservation and Education Division, Office of Protected Resources, National Marine Fisheries Service.

[FR Doc. 04-5020 Filed 3-4-04; 8:45 am]

BILLING CODE 3510-22-S